DEPARTMENT OF THE INTERIOR

Bureau of Indian Affairs

Receipt of Petitions for Federal Acknowledgment of Existence as an Indian Tribe

AGENCY: Bureau of Indian Affairs, Interior.

ACTION: Notice.

This notice is published in the exercise of authority delegated by the Secretary of the Interior to the Assistant Secretary—Indian Affairs by 209 DM 8.

Pursuant to 25 CFR 83.9(a) notice is hereby given that the following groups have each filed a letter of intent to petition for acknowledgment by the Secretary of the Interior that the group exists as an Indian tribe. Each letter of intent was received by the Bureau of Indian Affairs (BIA) on the date indicated, and was signed by members of the group's governing body.

Western Cherokee of Arkansas/Louisiana Territories, c/o Mr. Floyd H. Masterson, Sr., PO Box 700, Ellington, Missouri 63638. October 5, 2001.

Barbareno/Ventureno Band of Mission Indians, c/o Ms. Beverly Folkes, 1931 Shady Brook Drive, Thousand Oaks, California 91362. January 17, 2002.

Dumna Tribal Council, c/o Ms. Karin Kirkendall, 1003 South Ninth Street, Fresno, California 93702. January 22, 2002.

The Golden Hill Paugussett Tribal Nation, c/o Mr. Samuel E. Dixon, Jr., 205 Ivy Street, New Haven, Connecticut 06511. February 8, 2002.

Qutekcak Native Tribe, c/o Mr. Arne Hatch, PO Box 1467, Seward, Alaska 99664. February 13, 2002.

Hudson River Band, c/o Mr. Edward VanGuilder, PO Box 18, North Granville, New York 12854. April 19, 2002.

Pamaque Clan of Coahuila Y Tejas Spanish Indian Colonial Missions, Inc., c/o Mr. Joe Rick Mendoza, 4510 Chedder Drive, San Antonio, Texas 78227. April 23, 2002.

Arista Indian Village, c/o Sonia Marie McMorris, PO Box 61841, Houston, Texas 77208. May 21, 2002.

Wesget Sipu, Inc., c/o Mr. Carrol Theriault, 50 Blaine School Road, Fort Kent, Maine 04743. June 4, 2002.

Paugussett Tribal Nation of Waterbury, Connecticut, c/o Mr. Richard John Cam, 199 Easton Avenue, Waterbury, Connecticut 06704. July 3, 2002.

Muskegon River Band of Ottawa Indians, c/o Gerald L. Olman, 1235 Sherwood Drive, North Muskegon, Michigan 49445. July 26, 2002.

Tsalagi Nation Early Emigrants 1817, c/o Ms. Nancy Long Walker, 1454 Stoney Mountain Road, Rougemont, North Carolina 27572. July 30, 2002.

Chaloklowa Chickasaw Indian People, c/o Mr. Vernon M. Tanner, 501 Tanner Lane, Hemingway, South Carolina 29554. August 14, 2002.

Native American Mohegans, Inc., c/o Ms. Eleanor Fortin, PO Box 1066, Norwich, Connecticut 06360. September 19, 2002.

Ohatchee Cherokee Tribe Nation of New York and Alabama, c/o Mr. Chief Sitting Sun, PO Box 21-1018, Brooklyn, New York 11221. December 16, 2002.

Piro/Manso/Tiwa Tribe of Guadalupe Pueblo, c/o Ms. Natalia Melon, PO Box 16181, Las Cruces, New Mexico 88004. December 17, 2002.

Cheroenhaka (Nottoway) Indian Tribe, c/o Mr. Walter D. Brown, III, 33334 Sandy Ridge Road, Franklin, Virginia 23851. December 30, 2002.

United Mascogo Seminole Tribe of Texas, c/o Mr. William Warrior, 228 Linda Vista, Del Rio, Texas 78840. December 31, 2002.

Avoyel-Taensa Tribe/Nation of Louisiana, Inc., c/o Mr. Romes Antoine, 177 Green Acres, Simmesport, Louisiana 71369. January 9, 2003.

Wyandot of Anderdon Nation, c/o Mr. Steve Gronda, 2674 West Jefferson, Trenton, Michigan 48183. January 21, 2003.

Central Tribal Council, c/o Mr. James W. Shepherd, Sr., PO Box 460, Mammoth Spring, Arkansas 72554. January 21, 2003.

This notice acknowledges receipt of these letters of intent to petition and does not constitute notice that the petitions are under active consideration. Notice of active consideration will be sent by mail to the petitioner and other interested parties at the appropriate time.

Third parties may submit factual and/or legal arguments in support of or in opposition to each group's petition and may request to be kept informed of all general actions affecting the petition. Third parties should provide copies of their submissions to the petitioner. Any information submitted will be made available on the same basis as other information in the BIA's files.

The petitions may be examined, by appointment, in the Department of the Interior, BIA, Branch of Acknowledgment and Research, MS: 4660-MIB, 1849 C Street, NW., Washington, DC 20240; Telephone: (202) 208-3592.

Dated: February 26, 2003.
Aurene M. Martin,
Assistant Secretary—Indian Affairs.

[FR Doc. 03-6659 Filed 3-19-03; 8:45 am]

BILLING CODE 4310-4J-P